DEPARTMENT OF HOMELAND SECURITY

[Docket Number DHS-2024-0028]

Agency Information Collection Activities: Office of the Immigration Detention Ombudsman (OIDO) Intake Form, DHS Form 405, OMB Control No. 1601-0030

AGENCY: Department of Homeland Security (DHS).

ACTION: 60-Day notice and request for comments.

SUMMARY: The Department of Homeland Security will submit the following Information Collection Request (ICR) to the Office of Management and Budget (OMB) for review and clearance in accordance with the Paperwork Reduction Act of 1995.

DATES: Comments are encouraged and will be accepted until December 16, 2024. This process is conducted in accordance with 5 CFR 1320.1

ADDRESSES: You may submit comments, identified by docket number Docket # DHS-2024-0028, at:

○ Federal eRulemaking Portal: http://www.regulations.gov. Please follow the instructions for submitting comments.

Instructions: All submissions received must include the agency name and docket number Docket # DHS-2024-0028. All comments received will be posted without change to http://www.regulations.gov, including any personal information provided.

Docket: For access to the docket to read background documents or comments received, go to http://www.regulations.gov.

SUPPLEMENTARY INFORMATION: The Department of Homeland Security's (DHS) Office of the Immigration Detention Ombudsman (OIDO) is an independent office tasked with resolving individual complaints from or about individuals in immigration detention regarding the potential violation of immigration detention standards or other potential misconduct. OIDO was established by Congress (sec. 106 of the Consolidated Appropriations Act, 2020, Pub. L. 116-93).

DHS Form 405—“Case Intake Form” is intended for use by individuals wishing to submit a complaint to OIDO. Information collected will provide the office with details about the allegations the submitter seeks to have OIDO address. DHS is revising the information collection to refine several questions in Form 405 and to include an additional form, “Privacy Waiver Authorizing Disclosure to a Third Party”. Information collected on the “Privacy Waiver Authorizing Disclosure to a Third Party” will allow OIDO to disclose permitted information to a third party, such as the detained individual's relatives and/or representatives.

The information collected on Form 405—“Case Intake Form” allows OIDO to identify: (1) the individual submitting the complaint and their contact information; (2) the detained individual who is the subject of the complaint; (3) the government-owned or contracted facility where the individual is or was detained and for how long; and (4) relevant details about the complaint. All of this information will be used by OIDO to investigate, resolve, and if appropriate, provide redress.

Based on usability testing recommendations, DHS is revising Form 405. The form will be shortened by reducing extraneous sections, such as Question 12a (Category), Question 12b (Sub-Category), and Question 16. Please see the Narrative of Changes Table, a supplementary document, noting the revisions.

OIDO will use the additional form, “Privacy Waiver Authorizing Disclosure to a Third Party”, to obtain the detained individual's authorization to disclose permitted information and/or records about that individual to a third party. Information collected on the “Privacy Waiver Authorizing Disclosure to a Third Party” will allow OIDO to disclose permitted information to a third party, such as the detained individual's relatives and/or representatives.

The use of DHS Form 405—“Case Intake Form” is the most efficient means for collecting and processing the required data. The form is available for download from the OIDO website. The PDF form can be completed online and submitted to OIDO by email or mail. Additionally, DHS Form 405—“Case Intake Form” can be submitted electronically via the myOIDO portal (https://myoido.dhs.gov/en-US/).

After approval of the “Privacy Waiver Authorizing Disclosure to a Third-Party” form, an electronic version will be developed so that submitters may complete and file it via the OIDO website. Additionally, the form will be available for download from the OIDO website. The PDF form will be able to be completed online, printed out, and submitted to OIDO by email or mail or handed in person at a detention facility.

This information collection does not have an impact on small businesses or other small entities. If this information is not collected, OIDO will not be able to accomplish its Congressional mandate to provide assistance to individuals who may be affected by misconduct, excessive force, or other violations of law or detention standards. DHS will conduct this collection in a manner consistent with the general information collection guidelines in 5 CFR 1320.5(d)(2). The assurance of confidentiality provided to the respondents for this information collection is based on the Privacy Impact Assessment for the Immigration Detention Ombudsman Case Management System (IDCMS) (June 21, 2021). Additionally, the information collected is covered by DHS/ALL-020 Department of Homeland Security Internal Affairs, April 28, 2014, 79 FR 23361 and DHS/ALL-025 Law Enforcement Authority in Support of the Protection of Property Owned, Occupied, or Secured by the Department of Homeland Security System of Records, June 14, 2017, 82 FR 27274.

This information collection was constructed in compliance with regulations and authorities under the purview of the DHS Privacy Office, DHS OCIO, DHS Records Management, and OMB regulations regarding data collection, use, sharing, storage, information security, and retrieval of information.

The addition of the “Privacy Waiver Authorizing Disclosure to a Third Party” form and the removal of several questions from OIDO “Case Intake Form” resulted in a change in the collection burden.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security (DHS).

Title: Office of the Immigration and Detention Ombudsman (OIDO) Intake Form.

OMB Number: 1601-0030.

Frequency: Annually.

Affected Public: Individuals in Immigration Detention.

Number of Respondents: 5,436.

Estimated Time per Respondent: 1 hour.

Total Burden Hours: 5,436.

Robert Porter Dorr,
Executive Director, Business Management Directorate.

[FR Doc. 2024-23858 Filed 10-15-24; 8:45 am]

BILLING CODE 9112-FL-P